DEPARTMENT OF THE INTERIOR

National Park Service

Notice of Approval of Record of Decision; Final Environmental Impact Statement and General Management Plan for Redwood National and State Parks, Humboldt and Del Norte Counties, California

SUMMARY: Pursuant to section 102(2)(C) of the National Environmental Policy Act of 1969 (Pub.L. 91-190, as amended), and the regulations promulgated by the Council of Environmental Quality at 40 CFR 1505.2, the Department of the Interior, National Park Service has prepared and approved a Record of Decision for the Final Environmental Impact Statement (FEIS) for the General Management Plan (GMP) for Redwood National and State Parks, California.

Redwood National and State Parks are comprised of Redwood National Park and three state parks included within the national park boundary, Jedediah Smith, Del Norte Coast, and Prairie Creek Redwoods State Parks. The Final GMP is a joint General Management Plan/General Plan (GMP/GP) produced in cooperation with the State of California's Department of Parks and Recreation. This document incorporates all the elements of an Environmental Impact Report/General Plan (EIR/GP) required under state law. The National Park Service (NPS) and the California Department of Parks and Recreation (CDPR) will use the joint plan as a comprehensive guide for managing the 105,516-acre area of contiguous federal and state parklands cooperatively. The California State Park and Recreation Commission issued a resolution following a public hearing on the FEIR/GP on November 17, 1999 unanimously approving the Proposed Action (alternative 1) as it appeared in the FEIS/R as the option under which the three state parks will be managed. The CDPR has completed its conservation planning and environmental impact analysis process required under the California Environmental Quality Act.

The NPS will implement actions identified as the Proposed Action (alternative 1) in the Final General Management Plan/General Plan, as described in the Final EIS/R issued in November 1999. The Draft EIS/R was issued in August 1998 and analyzed three alternatives in addition to the Proposed Action. Under the no action alternative (alternative 2), the parks would be managed according to the prescriptions in the 1980 Redwood National Park General Management Plan and the 1985 State Redwoods Parks General Plan, and subsequent approved planning documents based on those general plans. Under the Preservation Emphasis alternative (alternative 3), the agencies would emphasize the preservation and restoration of the parks' resources and values; opportunities for public use and enjoyment would be limited to experiences that are consistent with this high degree of resource stewardship. This was the environmentally preferred alternative but it was not selected because it unnecessarily restricted visitor use without a substantial concomitant increase in benefits to the resources when compared to the selected action. Under the Visitor Use Emphasis alternative (alternative 4), the agencies would provide a wide spectrum of appropriate visitor experiences that relate to the parks' resources, consistent with overarching obligations to protect the parks' resources and values.

The Record of Decision is a concise statement of all alternatives considered, what decisions were made, and the rationale supporting the selection of the final plan. It also contains a synopsis of the conservation planning and environmental impact analysis process, identifies the environmentally preferred alternative, notes the important public collaboration undertaken and its part in the decision, and summarizes the critical mitigation measures.

Copies of the complete Record of Decision may be obtained from the Superintendent, Redwood National and State Parks, 1111 Second Street, Crescent City, CA, or via telephone at (707) 464-6101.

Dated: April 6, 2000.
John J. Reynolds,
Regional Director, Pacific West Region.

[FR Doc. 00-9587 Filed 4-17-00; 8:45 am]

BILLING CODE 4310-70-P